DEPARTMENT OF COMMERCE

Patent and Trademark Office

United States Patent Applicant Survey

ACTION: Proposed collection; comment request.

SUMMARY: The United States Patent and Trademark Office (USPTO), as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before April 19, 2004.

ADDRESSES: Direct all written comments to Susan K. Brown, Records Officer, Office of the Chief Information Officer, Office of Data Architecture and Services, Data Administration Division, 703-308-7400, U.S. Patent and Trademark Office, P.O. Box 1450, Alexandria, VA 22313, Attn: CPK 3 Suite 310; by e-mail at susan.brown@uspto.gov; or by facsimile at 703-308-7407.

FOR FURTHER INFORMATION CONTACT: Requests for additional information should be directed to the attention of Barrett J. Riordan, Senior Economist, Office of Corporate Planning, United States Patent and Trademark Office (USPTO), P.O. Box 1450, Alexandria, VA 22313-1450; by telephone 703-305-8475; or by e-mail at barry.riordan@uspto.gov.

SUPPLEMENTARY INFORMATION

I. Abstract

For several years the USPTO has supported an ongoing econometric and statistical forecasting program. While this has improved workload forecasting, it still falls short of the type of accuracy required by the USPTO. The Senate Appropriations Report 106-404 (September 8, 2000) directed the USPTO to “develop a workload forecast with advice from a representative sample of industry and the inventor community.” A patent application survey will allow the USPTO to accurately estimate future patent application activity on a continuing basis.

Consequently, the USPTO has developed the United States Patent Applicant Survey as part of a continuing effort to obtain information on customer filing intentions that will assist the USPTO in predicting future growth rates in patent applications. The purpose of this survey is to determine the number of applications that the USPTO can expect to receive over the next four years from patent-generating entities, ranging from large domestic corporations to independent inventors.

Previously, the rate of patent application submissions to the USPTO steadily increased with the expanding technological innovations over the past decade. However, in recent years there has been a decrease in the growth rate of patent applications that are being submitted to the USPTO. Due to these circumstances, it is necessary for the USPTO to conduct this Patent Applicant Survey to obtain data that will allow the agency to anticipate demand and estimate future revenue flow more reliably; to identify input and output triggers and allocate resources to meet and understand customer needs; and to re-assess output and capacity goals and re-align organization quality control measures with workload demand by division.

The Patent Applicant Survey is a mail survey, although respondents also have the option to complete the survey electronically. A survey packet, containing the survey, a cover letter explaining the purpose of the survey and outlining instructions for completing the survey electronically, and a postage-paid, pre-addressed return envelope, will be mailed to all survey groups. The USPTO plans to survey four groups of respondents: large domestic corporations (including those with 500+ employees), small and medium-size businesses, universities and other not-for-profit organizations, and independent inventors. The USPTO does not plan to survey foreign entities and will rely on the European Patent Office (EPO) and the Japanese Patent Office (JPO) to provide forecasts of filings by foreign entities. Due to variances in filing and the varying needs of the different patent-filing populations, the USPTO has developed three versions of the survey: one for the large domestic corporations and small entities, one for universities, and another for independent inventors.

Since the initial survey, administered in late 2002, the USPTO gathered additional information, which was used to redesign the survey so that it eliminates difficulties discovered in the previous survey and coordinates more easily with parallel surveys conducted concurrently by the European and Japanese Patent Offices. The USPTO plans to expand the survey to additional groups in 2004 so that the population of patent-generating entities is fully represented.

The initial survey was reviewed and approved by OMB under OMB Control Number 0651-0038 Customer Input, Patent and Trademark Customer Surveys, the USPTO's generic customer survey clearance. However, due to the USPTO's stated purpose of using this survey to predict workload and revenue flow, the fact that this survey is part of a continuing pilot project, and since the survey methodology is fully developed, the USPTO is submitting this survey separately to OMB for review and approval, instead of submitting it under the generic clearance.

These surveys do not have USPTO form numbers associated with them and once they are approved, they will carry the OMB Control Number and the expiration date.

II. Method of Collection

By mail or electronically over the Internet when respondents elect the on-line option to complete the survey.

III. Data

OMB Number: 0651-00XX.

Form Number(s): N/A.

Type of Review: New information collection.

Affected Public: Individuals or households; business or other for profit; not-for-profit institutions; Federal Government; and state, local or tribal Government.

Estimated Number of Respondents: 450 total responses per year. Of this total, 225 surveys of large domestic corporations (500+ employees), 100 surveys of small and medium size businesses, 25 surveys of universities, and 100 surveys of independent inventors will be conducted per year. The USPTO expects that 150 surveys will be completed using the on-line option.

Estimated Time Per Response: The USPTO estimates that it will take approximately 30 minutes (0.5 hours) each to complete the mail and electronic surveys of large domestic corporations (500+ employees), small and medium size businesses, and universities; and approximately 7 minutes (0.12 hours) to complete the mail and electronic surveys of independent inventors.

Estimated Total Annual Respondent Burden Hours: 189 hours per year.

Estimated Total Annual Respondent Cost Burden: $44,415. The USPTO estimates that 75% of the respondents completing these surveys will be associate attorneys and that the remaining 25% of respondents will be paraprofessionals/paralegals. Using a typical professional hourly rate of $286 for associate attorneys in private firms and the paraprofessional/paralegal rate of $81 for paralegals/legal assistants in private firms, the USPTO believes that the average hourly rate for those completing these surveys will be $235 per hour. Therefore, the USPTO estimates that the salary costs for the respondents completing these surveys will be $44,415 per year.

Item | Estimated time for response (minutes) | Estimated annual responses | Estimated annual burden hours
Large Domestic Corporations | 30 | 150 | 75
Large Domestic Corporations (electronic surveys) | 30 | 75 | 38
Small and Medium Size Businesses | 30 | 67 | 34
Small and Medium Size Businesses (electronic surveys) | 30 | 33 | 17
Universities and Non-Profits | 30 | 16 | 8
Universities and Non-Profits (electronic surveys) | 30 | 9 | 5
Independent Inventors | 7 | 67 | 8
Independent Inventors (electronic surveys) | 7 | 33 | 4
Total |  | 450 | 189

Estimated Total Annual Non-Hour Respondent Cost Burden: $0. There are no capital start-up, maintenance, or recordkeeping costs or filing fees associated with this information collection. The USPTO provides postage-paid, pre-addressed return envelopes for the completed mail surveys so there are no postage costs associated with this information collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: February 10, 2004.
Susan K. Brown,
Records Officer, United States Patent and Trademark Office, Office of the Chief Information Officer, Office of Data Architecture and Services, Data Administration Division.

[FR Doc. 04-3346 Filed 2-13-04; 8:45 am]

BILLING CODE 3510-16-P